DEPARTMENT OF AGRICULTURE

Forest Service

Shasta County Resource Advisory Committee (RAC)

AGENCY: Forest Service.

ACTION: Notice of meeting.

SUMMARY: The Shasta County Resource Advisory Committee (RAC) will meet on August 27, 2003, in Redding, California. The purpose of the meeting will be to hear presentations from applicants proposing projects, review project proposals, and receive reports from working committees.

DATES: The meeting will be held on August 27, 2003, from 8 a.m. to noon.

ADDRESSES: The meeting will be held at Redding Elementary School District Office, 5885 East Bonnyview Rd., corner of E. and S. Bonnyview streets accessed by Interstate-5.

FOR FURTHER INFORMATION CONTACT: Rebecca Franco, coordinator, USDA Forest Service, (530) 242-2322. e-mail: rfranco@fs.fed.us.

SUPPLEMENTARY INFORMATION: The meeting is open to the public. Discussion is limited to Forest Service staff and committee members. However, time will be provided for public input, giving individuals the opportunity to address the committee.

Dated: August 6, 2003.
J. Sharon Heywood,
Forest Supervisor.

[FR Doc. 03-20701 Filed 8-13-03; 8:45 am]

BILLING CODE 3410-11-M